DEPARTMENT OF THE INTERIOR

National Park Service

[NPS-WASO-NAGPRA-NPS0040407; PPWOCRADN0-PCU00RP14.R50000]

Notice of Intended Repatriation: Denver Museum of Nature & Science, Denver, CO

AGENCY: National Park Service, Interior.

ACTION: Notice.

SUMMARY: In accordance with the Native American Graves Protection and Repatriation Act (NAGPRA), the Denver Museum of Nature & Science intends to repatriate a certain cultural item that meets the definition of a sacred object and that has a cultural affiliation with the Indian Tribes or Native Hawaiian organizations in this notice.

DATES: Repatriation of the cultural item in this notice may occur on or after July 17, 2025.

ADDRESSES: Send additional, written requests for repatriation of the cultural item in this notice to Dr. Michele Koons, Denver Museum of Nature & Science, 2001 Colorado Blvd., Denver, CO 80205, email Michele.Koons@dmns.org.

SUPPLEMENTARY INFORMATION: This notice is published as part of the National Park Service's administrative responsibilities under NAGPRA. The determinations in this notice are the sole responsibility of the Denver Museum of Nature & Science, and additional information on the determinations in this notice, including the results of consultation, can be found in the summary or related records. The National Park Service is not responsible for the determinations in this notice.

Abstract of Information Available

A total of one cultural item has been requested for repatriation. The one sacred object is a hair ornament.

The one sacred object, ID# AC.24, consists of a hair ornament containing a triangular beaded pattern, a silver concha, and bear claws. The entire object is approximately four inches in diameter.

The hair ornament was in the primary possession of Buckskin Charley, also known as Sapiah, in the secondary possession of S.F. May, who acquired it an unknown date, and in the tertiary possession of Mr. George A. Cuneo, whose collection was on loan to the Denver Art Museum from 1937 to 1956. After Cuneo's estate was settled, some of his collection was sold to Erich Kohlberg of Kohlberg's Antiques and Indian Arts in Denver, Colorado. The hair ornament was then purchased from Kohlberg by Mary and Francis Crane and donated to the Denver Museum of Nature & Science in 1968.

Joyce Herold of the Denver Museum of Natural History (now the Denver Museum of Nature & Science) believed the object to be originally owned by Buckskin Charley.

The hair ornament was formerly on display in the “Navajo section” of DMNS North American Indigenous Cultures Hall, which has been closed to the public since June 2023. When DMNS deinstalled the “Navajo section”, the hair ornament was in this section because it also has a silver concha attached to it.

Determinations

The Denver Museum of Nature & Science has determined that:

• The one sacred object described in this notice is a specific ceremonial object needed by a traditional Native American religious leader for present-day adherents to practice traditional Native American religion, according to the Native American traditional knowledge of a lineal descendant, Indian Tribe, or Native Hawaiian organization.

• There is a reasonable connection between the cultural item described in this notice and the Southern Ute Indian Tribe of the Southern Ute Reservation, Colorado.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 17, 2025. If competing requests for repatriation are received, the Denver Museum of Nature & Science must determine the most appropriate requestor prior to repatriation. Requests for joint repatriation of the cultural item are considered a single request and not competing requests. The Denver Museum of Nature & Science is responsible for sending a copy of this notice to the Indian Tribes and Native Hawaiian organizations identified in this notice and to any other consulting parties.

Authority: Native American Graves Protection and Repatriation Act, 25 U.S.C. 3004 and the implementing regulations, 43 CFR 10.9.

Dated: June 11, 2025
Melanie O'Brien,
Manager, National NAGPRA Program.

[FR Doc. 2025-11143 Filed 6-16-25; 8:45 am]

BILLING CODE 4312-52-P